DEPARTMENT OF ENERGY

Federal Energy Regulatory Commission

[Docket No. EG06-41-000]

Aragonne Wind LLC; Notice of Effectiveness of Exempt Wholsale Generator or Foreign Utility Company Status

June 6, 2006.

Take notice that during the month of May 2006, the status of the above-captioned entities as Exempt Wholesale Generators or Foreign Utility Companies became effective by operation of the Commission's regulations. 18 CFR 366.7(a).

Magalie R. Salas,
Secretary.

[FR Doc. E6-9095 Filed 6-9-06; 8:45 am]

BILLING CODE 6717-01-P